DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

TIME AND DATE: October 20, 2022, 10 a.m.

PLACE: Room 2C, 888 First Street NE, Washington, DC 20426.

STATUS: Open to the public.

MATTERS TO BE CONSIDERED: Agenda.

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's website at https://elibrary.ferc.gov/eLibrary/search using the eLibrary link.

1094th—Meeting
[Open Meeting; October 20, 2022, 10 a.m.]
Item No. | Docket No. | Company
ADMINISTRATIVE
A-1 | AD23-1-000 | Agency Administrative Matters.
A-2 | AD23-2-000 | Customer Matters, Reliability, Security and Market Operations
A-3 | AD06-3-000 | 2022-2023 Winter Energy Market and Reliability Assessment.
ELECTRIC
E-1 | ER21-2460-002 | New York Independent System Operator, Inc
E-2 | ER21-2455-002 | California Independent System Operator Corporation
E-3 | ER22-1719-001 | Southwest Power Pool, Inc
E-4 | EL15-3-004 | City and County of San Francisco v. Pacific Gas and Electric Company.
| ER15-704-026 | Pacific Gas and Electric Company.
E-5 | ER20-67-001 | Evergy Kansas Central, Inc.
| ER20-116-001 | Evergy Metro, Inc.
| ER20-113-001 | Evergy Missouri West, Inc.
E-6 | EC22-45-000 | TransAlta Energy Marketing (U.S.) Inc., TransAlta Energy Marketing Corp., TransAlta Centralia Generation LLC, TransAlta Wyoming Wind LLC, Lakeswind Power Partners, LLC, Big Level Wind LLC, Eagle Canada Common Holdings LP, and BIF IV Eagle NR Carry LP
E-7 | ER19-776-001, ER19-809-001 | Midcontinent Independent System Operator, Inc.
E-8 | ER21-2464-000 | Avangrid Renewables, LLC.
E-9 | ER21-2443-000 | Black Hills Power, Inc.
E-10 | ER21-43-000, ER21-43-001, ER21-43-002, ER21-2453-000 | Exelon Generation Company, LLC.
E-11 | ER21-59-002 | Brookfield Renewable Trading and Marketing LP.
E-12 | ER21-64-001 | Macquarie Energy LLC.
E-13 | ER21-65-002 | Tri-State Generation and Transmission Association, Inc.
E-14 | ER22-728-001 | Pegasus Wind, LLC.
E-15 | EL21-97-000 | Blue Ridge Power Agency.
GAS
G-1 | RP19-78-000, RP19-78-001, RP19-1523-000 | Panhandle Eastern Pipe Line Company, LP.
| RP19-257-005 | Southwest Gas Storage Company.
G-2 | AD20-10-000 | Standard Applied to Complaints Against Oil Pipeline Index Rate Changes.
HYDRO
H-1 | P-906-032 | Cushaw Hydro, LLC
H-2 | P-2107-047 | Pacific Gas and Electric Company.
CERTIFICATES
C-1 | CP21-467-000 | Texas Gas Transmission, LLC.
C-2 | CP21-1-000, CP21-458-000 | Golden Pass Pipeline LLC.
C-3 | CP22-507-000 | Limetree Bay Terminals, LLC.
C-4 | CP20-493-001 | Tennessee Gas Pipeline Company, L.L.C.
C-5 | CP16-454-004 | Rio Grande LNG, LLC.
C-6 | CP18-512-002 | Corpus Christi Liquefaction Stage III, LLC, and Corpus Christi Liquefaction, LLC.
| CP18-513-002 | Cheniere Corpus Christi Pipeline, LP.

A free webcast of this event is available through the Commission's website. Anyone with internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: October 13, 2022.
Kimberly D. Bose,
Secretary.

[FR Doc. 2022-22773 Filed 10-17-22; 11:15 am]

BILLING CODE 6717-01-P